DEPARTMENT OF COMMERCE

International Trade Administration

[A-351-809, A-201-805, A-580-809, A-583-814, A-583-008]

Certain Circular Welded Non-Alloy Steel Pipe From Brazil, Mexico, the Republic of Korea, and Taiwan; and Certain Circular Welded Carbon Steel Pipes and Tubes From Taiwan: Final Results of the Expedited Third Sunset Reviews of the Antidumping Duty Order

AGENCY: Import Administration, International Trade Administration, Department of Commerce.

SUMMARY: On August 1, 2011 the Department of Commerce (Department) initiated the third five-year (sunset) reviews of the antidumping duty orders on certain circular welded non-alloy steel pipe from Brazil, Mexico, the Republic of Korea, and Taiwan; and certain circular welded carbon steel pipes and tubes from Taiwan, pursuant to section 751(c) of the Tariff Act of 1930, as amended (the Act). The Department has conducted expedited (120-day) sunset reviews of these antidumping duty orders pursuant to section 751(c)(3)(B) of the Act and 19 CFR 351.218(e)(1)(ii)(C)(2). As a result of these reviews, the Department finds that revocation of the antidumping duty orders would likely lead to a continuation or recurrence of dumping, at the levels indicated in the “Final Results of Sunset Reviews” section of this notice, infra.

FOR FURTHER INFORMATION: Steve Bezirganian, Deborah Scott or Robert James, AD/CVD Operations, Office 7, Import Administration, International Trade Administration, U.S. Department of Commerce, 14th Street and Constitution Avenue NW., Washington, DC 20230; telephone: (202) 482-1131, (202) 482-2657 or (202) 482-0649, respectively.

SUPPLEMENTARY INFORMATION:

Background

On August 1, 2011, the Department published in the Federal Register the notice of initiation of the sunset reviews of the antidumping duty orders on certain circular welded non-alloy steel pipe from Brazil, Mexico, the Republic of Korea, and Taiwan; and certain circular welded carbon steel pipes and tubes from Taiwan, pursuant to section 751(c) of the Act. See Initiation of Five-Year (“Sunset”) Review, 76 FR 38613 (July 1, 2011) (Notice of Initiation).

The Department received a notice of intent to participate from the following domestic interested parties within the deadline specified in 19 CFR 351.218(d)(1)(i): Allied Tube and Conduit, TMK IPSCO Tubulars, Leavitt Tube, Northwest Pipe Company, Western Tube and Conduit, and JMC Steel Group (collectively “certain domestic interested parties”) ¹ and United States Steel Corporation (U.S. Steel). Certain domestic interested parties, U.S. Steel, and Wheatland Tube Company (Wheatland) claimed interested party status under section 771(9)(C) of the Act.

¹ Note that for certain orders, not all of these companies were identified as interested parties. However, because they were each identified as interested parties for some of the orders and in no instances filed individual substantive responses, they are referenced collectively.

The Department received adequate substantive responses to the Notice of Initiation from certain domestic interested parties and U.S. Steel within the 30-day deadline specified in 19 CFR 351.218(d)(3)(i). We received no substantive responses from Wheatland or respondent interested parties with respect to the antidumping duty orders.

As a result, pursuant to 19 CFR 351.218(e)(1)(ii)(C)(2), the Department determined that it would conduct expedited (120-day) sunset reviews of the antidumping duty orders and notified the U.S. International Trade Commission. See Letter to Catherine DeFilippo, Director, Office of Investigations, U.S. International Trade Commission, from Barbara E. Tillman, Director, Office 6, AD/CVD Operations, entitled “Sunset Reviews Initiated on July 1, 2011,” dated August 22, 2011.

Scope of the Orders

Certain Circular Welded Non-Alloy Steel Pipe From Brazil, Mexico, and the Republic of Korea

The products covered by the orders are circular welded non-alloy steel pipes and tubes, of circular cross-section, not more than 406.4 millimeters (16 inches) in outside diameter, regardless of wall thickness, surface finish (black, galvanized, or painted), or end finish (plain end, beveled end, threaded and coupled). These pipes and tubes are generally known as standard pipes and tubes and are intended for the low pressure conveyance of water, steam, natural gas, and other liquids and gasses in plumbing and heating systems, air conditioning units, automatic sprinkler systems, and other related uses, and generally meets ASTM A-53 specifications. Standard pipe may also be used for light load-bearing applications, such as for fence tubing, and as structural pipe tubing used for farming and support members for reconstruction or load bearing purposes in the construction, shipbuilding, trucking, farm equipment, and related industries. Unfinished conduit pipe is also included in the orders.

All carbon steel pipes and tubes within the physical description outlined above are included within the scope of the orders, except line pipe, oil country tubular goods, boiler tubing, mechanical tubing, pipe and tube hollows for redraws, finished scaffolding, and finished conduit. Standard pipe that is dual or triple certified/stenciled that enters the U.S. as line pipe of a kind used for oil or gas pipelines is also not included in the orders.

Imports of the products covered by the orders are currently classifiable under the following Harmonized Tariff Schedule of the United States (HTSUS) subheadings: 7306.30.10.00, 7306.30.50.25, 7306.30.50.32, 73.06.30.50.40, 7306.30.50.55, 7306.30.50.85, and 7306.30.50.90.

Although the HTSUS subheadings are provided for convenience and customs purposes, our written description of the scope of the orders is dispositive.

Certain Circular Welded Non-Alloy Steel Pipe From Taiwan

The products covered by the order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light load-bearing applications, such as for fence-tubing and as structural pipe tubing used for framing and support members for construction, or load-bearing purposes in the construction, shipbuilding, trucking, farm-equipment, and related industries. Unfinished conduit pipe is also included in the order.

All carbon steel pipes and tubes within the physical description outlined above are included within the scope of the order, except line pipe, oil country tubular goods, boiler tubing, mechanical tubing, pipe and tube hollows for redraws, finished scaffolding, and finished conduit. Standard pipe that is dual or triple certified/stenciled that enters the U.S. as line pipe of a kind or used for oil and gas pipelines is also not included in the scope of the order.

Imports of the products covered by the order are currently classifiable under the following Harmonized Tariff Schedule of the United States (HTSUS) subheadings, 7306.30.10.00, 7306.30.50.85, 7306.30.50.90.

Although the HTSUS subheadings are provided for convenience and customs purposes, our written description of the scope of the order is dispositive.

Circular Welded Carbon Steel Pipes and Tubes From Taiwan

The products covered by the order are certain circular welded carbon steel pipes and tubes from Taiwan, which are defined as: welded carbon steel pipes and tubes, of circular cross section, with walls not thinner than 0.065 inch, and 0.375 inch or more but not over 4.5 inches in outside diameter, currently classified under Harmonized Tariff Schedule of the United States (HTSUS) item numbers 7306.30.50.25, 7306.30.50.32, 7306.30.50.40, and 7306.30.50.55. Although the HTSUS subheadings are provided for convenience and customs purposes, the written description of the merchandise covered by the order is dispositive.

Analysis of Comments Received

All issues raised in these reviews are addressed in the “Issues and Decision Memorandum for the Final Results of Expedited Five-Year (Sunset) Reviews of the Antidumping Duty Orders on Certain Circular Welded Non-Alloy Steel Pipe from Brazil, Mexico, the Republic of Korea, and Taiwan; and Certain Circular Welded Carbon Steel Pipes and Tubes from Taiwan,” from Gary Taverman, Acting Deputy Assistant Secretary for Antidumping and Countervailing Duty Operations, to Ronald K. Lorentzen, Deputy Assistant Secretary for Import Administration (Decision Memorandum), which is hereby adopted by, and issued concurrently with, this notice. The issues discussed in the Decision Memorandum include the likelihood of continuation or recurrence of dumping and the magnitude of the margins likely to prevail if the orders were revoked. Parties can find a complete discussion of all issues raised in these reviews and the corresponding recommendations in this public memorandum, which is a public document and is on file electronically via Import Administration's Antidumping and Countervailing Duty Centralized Electronic Service System (IA ACCESS). Access to IA ACCESS is available in the Central Records Unit in room 7046 of the main Department building. In addition, a complete version of the Decision Memorandum can be accessed directly on the Web at http://www.trade.gov/ia/. The signed Decision Memorandum and the electronic versions of the Decision Memorandum are identical in content.

Final Results of Sunset Reviews

We determine that revocation of the antidumping duty orders on certain circular welded non-alloy steel pipes from Brazil, Mexico, the Republic of Korea, and Taiwan; and certain circular welded carbon steel pipes and tubes from Taiwan would be likely to lead to continuation or recurrence of dumping at the following weighted-average percentage margins:

Manufacturers/Exporters | Weighted-average margin (percent)
Certain Circular Welded Non-Alloy Steel Pipe
Brazil:
Persico Pizzamiglio S.A. | 103.38
All Others | 103.38
Mexico:
HYLSA S.A. de C.V.² | 32.62
All Others | 32.62
The Republic of Korea:
Hyundai Steel Pipe Co., Ltd | 6.86
Korea Steel Pipe Co., Ltd | 6.21
Masan Steel Tube Works Co., Ltd | 11.63
Pusan Steel Pipe Co., Ltd | 4.91
All Others | 6.37
Taiwan:
Kao Hsing Chang Iron & Steel Corp | 19.46
Yieh Hsing Enterprise Co., Ltd. | 27.65
All Others | 23.56
Circular Welded Carbon Steel Pipes and Tubes
Taiwan:
Kao Hsing Chang Iron & Steel Corporation | 9.70
Tai Feng Industries, Inc. | 43.70
Yieh Phui Enterprise Co, Ltd.³ | 38.50
All Others | 9.70

Notification to Interested Parties

² The Department found that Ternium Mexico S.A. de C.V. is the successor-in-interest to HYLSA S.A. de C.V. See Final Results of Antidumping Duty Changed Circumstances Review: Certain Circular Welded Non-Alloy Steel Pipe and Tube from Mexico, 74 FR 41681 (August 18, 2009).

³ The Department found that Yieh Phui Enterprise Co., Ltd. is the successor-in-interest to Yieh Hsing Enterprise Co., Ltd. See Certain Circular Welded Carbon Steel Pipes and Tubes from Taiwan: Final Results of Antidumping Duty Changed Circumstance Review, 70 FR 71802 (November 30, 2005).

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: October 21, 2011.
Ronald K. Lorentzen,
Deputy Assistant Secretary for Import Administration.

[FR Doc. 2011-27980 Filed 10-27-11; 8:45 am]

BILLING CODE 3510-DS-P